DEPARTMENT OF AGRICULTURE

Food and Nutrition Service

Agency Information Collection Activities: Proposed Collection; Comments Request—Erroneous Payments in Child Care Centers Study (EPICCS)

AGENCY: Food and Nutrition Service (FNS), USDA.

ACTION: Notice.

SUMMARY: In accordance with the Paperwork Reduction Act of 1995, this notice invites the general public and other public agencies to comment on this proposed information collection. This is a new collection for the Erroneous Payments in Child Care Centers Study (EPICCS).

DATES: Written comments must be received on or before January 19, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Written comments may be sent to: Chan Chanhatasilpa, Food and Nutrition Service, USDA, 3101 Park Center Drive, Room 1000, Alexandria, VA 22302. Comments may also be submitted via fax to the attention of Chan Chanhatasilpa at 703-305-2576 or via email to Chanchalat.chanhatasilpa@fns.usda.gov. Comments will also be accepted through the Federal eRulemaking Portal. Go to http://www.regulations.gov, and follow the online instructions for submitting comments electronically.

All written comments will be open for public inspection at the office of the Food and Nutrition Service during regular business hours (8:30 a.m. to 5:00 p.m. EST, Monday through Friday) at 3101 Park Center Drive, Room 1100, Alexandria, Virginia 22302.

All responses to this notice will be summarized and included in the request for Office of Management and Budget approval. All comments will be a matter of public record.

FOR FURTHER INFORMATION CONTACT: Requests for additional information should be directed to Chan Chanhatasilpa at 703-305-2115.

SUPPLEMENTARY INFORMATION: Title: Erroneous Payments in Child Care Centers Study (EPICCS).

Form Number: Not applicable.

OMB Number: 0584—NEW.

Expiration Date: Not Yet Determined.

Type of Request: New collection.

Abstract: The Improper Payments Information Act of 2002, Public Law 107-300, requires the United States Department of Agriculture (USDA) to identify and reduce erroneous payments in various programs, including the Child and Adult Care Food Program (CACFP). The passage of the Improper Payments Elimination and Recovery Act (IPERA) in 2010, Public Law 111-204 amended and enhanced requirements for not only addressing improper payments but also prompting efforts at recovery by requiring annual risk assessments and measurement of improper payments. To comply with IPERA 2010, USDA needs a reliable measure to estimate erroneous payments for CACFP. The program's benefits are provided in various programs that serve both children and adults in both child care centers and private homes. EPICCS will gather information specific to participating child care centers, both sponsored and independent, and including Head Start centers. EPICCS is planned to leverage the procedures and methodologies used to conduct the Access, Participation, Eligibility and Certification (APEC) Study series to develop reliable estimation models to estimate erroneous payment.

Affected Public: Respondent groups identified include: (1) State CN agencies, (2) CACFP sponsoring organizations, (3) child care centers, and (4) parents/guardians of enrolled children.

Estimated Number of Respondents: The total estimated number of respondents for data collection is 6,325. This includes: 25 administrators at State CN agencies, 450 directors at sponsoring organizations, 450 child care center directors, and 5,400 parents or guardians of enrolled children at CACFP participating child care centers. The number of sponsors, centers, and parents/guardians recruited will be slightly higher to account for non-respondents. The sample will include 150 independent child care centers who act as their own sponsor for the CACFP. As such, they are included in counts of both sponsors and child care centers.

Estimated Number of Responses per Respondent: Administrators at State CN agencies will be expected to provide responses on three occasions. The sponsoring organizations may be contacted up to seven times while the child care centers can be contacted up to eleven times. Parents or guardians of sampled households will be contacted on four occasions. The burden for non-respondents is outlined in the table that follows, and includes the time to complete the review of introductory materials and respond to the recruitment call.

Estimated Total Annual Responses: The total number of responses expected across all respondent categories is 32,272. This includes a total of 16,480 responses for recruitment and review of study information and/or requests, and a total of 15,792 responses for actual data collection (i.e. responses survey/interview questions or compiling data for the study).

Estimated Time per Respondent: The estimated time will vary depending on the respondent category. The table that follows outlines the estimated total annual burden for each type of respondent.

Estimated Total Annual Burden on Respondents: The total estimated response time is 12,844 hours.

Dated: November 10, 2015.
Audrey Rowe,
Administrator, Food and Nutrition Service.

[FR Doc. 2015-29391 Filed 11-17-15; 8:45 am]

BILLING CODE 3410-30-P